DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held April 7, 2005 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The revised agenda will include:

• April 7:

• Opening Session (Welcome and Introductory Remarks, Review/Approve Summary of a Previous Meeting).

• Publication Consideration/Approval:

• Final Draft, Revised DO-286, Minimum Aviation System Performance Standards (MASPS) for Traffic Information Service—Broadcast (TIS-B) RTCA Paper No. 034-05/PMC-385, prepared by SC-186.

• Final Draft, Revised DO-258, Interoperability Requirements for ATS Applications Using ARINC 622 Data Communications, RTCA Paper No. 035-05/PMC-386, prepared by SC-189.

• Final Draft, Revised D246B, GNSS Based Precision Approach Local Area Augmentation System (LAAS)—Signal-in-Space interface Control Document (ICD), RTCA Paper No. 039-05/PMC-388, prepared by SC-159.

• Discussion:

• Airport Security Access Control Systems—Possible new Special Committee.

• Special Committee Chairman's Reports.

• Action Item Review:

• Review/Status-All open action items.

• Closing Session (Other Business, Document Production, Date and Place of Next Meeting, Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 18, 2005.
Natalie Ogletree,
FAA General Engineer, RTCA Advisory Committee.

[FR Doc. 05-6071 Filed 3-28-05; 8:45 am]

BILLING CODE 4910-13-M